DEPARTMENT OF AGRICULTURE

Forest Service

Humboldt-Toiyabe National Forest, Mountain City Ranger District, Mountain City Ranger District Rangeland Management Project; Environmental Statements; Notice of Intent

AGENCY: Forest Service, USDA.

ACTION: Notice of intent to prepare an Environmental Impact Statement.

SUMMARY: The Mountain City Ranger District of the Humboldt-Toiyabe National Forest will prepare an Environmental Impact Statement (EIS) on a proposal to authorize continued livestock grazing on National Forest System (NFS) lands within the boundaries administered by the Ranger District. The Project Area is located in Elko County, Nevada.

DATES: In order to be most effective, comments concerning the scope of the proposed analysis should be received within 30 days from the date that this Notice of Intent (NOI) is published in the Federal Register. The draft EIS is expected to be completed in March 2006, and the final EIS is expected to be completed in September 2006.

ADDRESSES: Send written comments to: District Ranger, Mountain City Ranger District, 2035 Last Chance Road, Elko, NV 89801.

Electronic comments may be sent via e-mail to: comments-intermtn-humboldt-toiyabe-mtncity@fs.fed.us.

Please put “Grazing EIS” in the subject line of e-mail transmissions.

FOR FURTHER INFORMATION, CONTACT: Douglas Clarke, Project Coordinator, Humboldt-Toiyabe National Forest, 2035 Last Chance Road, Elko, NV 89801, Telephone: 775-778-6127.

SUPPLEMENTARY INFORMATION:

Purpose of and Need for Action

The Mountain City Ranger District Rangeland Management Project is an opportunity to provide for livestock grazing that is managed in a manner that will maintain areas that are currently ecologically satisfactory, according to Forest Plan direction (desired functioning conditions), or that will improve specific areas identified through this analysis or in the future as ecologically unsatisfactory (less than functioning condition).

Given the focus on this need, the purpose of the project is to bring current improper livestock grazing practices into alignment with the requirements of wildlife and other natural resources where needed in the Project Area. Also included in this project is the need to be able to apply the use of adaptive management when managing livestock and the affected natural resources. Currently, term grazing permits provide for little flexibility or ability to change management when monitoring shows a need or opportunity for change.

In the time since the Forest Plan goals were identified in 1986, wildlife science, range science, and natural resource management science have continued to evolve. More is known now about the relationship between species and the environments in which they live, resulting in changes in management direction for specific species over the last decade. Range scientists within both the Forest Service and the academic community have also conducted research and published scientific papers regarding the influences that livestock grazing has on the environment. In many areas across the American West, the results of this research have been applied in the design and implementation of effective adaptive management strategies. Much of this current science and knowledge should now be incorporated into grazing management within the Project Area.

The primary emphasis will be an ecological based approach rather than livestock administration. However, the emphasis will also include reponding to improper livestock management.

In addition to the need to incorporate new or updated research into existing grazing management strategies, the Mountain City Ranger District has gathered an extensive collection of historic and current photographs taken from the same places in different decades throughout the District. These photographs, known as “repeat photo sets” show that, in general, rangeland ecological conditions throughout the District have improved from the early 1900's to now, or maintained themselves at an acceptable level for the most part. In many instances there is a pronounced improvement from the 1960's and 1970's until now, which is a timeframe when many of the grazing management improvements in place today (rotational or improved grazing systems, infrastructure improvements such as division fences and water developments, and improved herding or animal husbandry practices) were originally implemented. The information gleaned from advances in science since the original Forest Plan was implemented, the inferences to ecological condition available from the repeat photo sets, and existing site-specific information were used to develop the proposed action for this analysis. The proposed action is designed to be able to specifically address, either currently if known during the course of this analysis, or identified through future monitoring or subsequent advances in knowledge about ecological relationships, the impacts from improper grazing practices.

Proposed Action

The Mountain City Ranger District of the Humboldt-Toiyabe National Forest is proposing to authorize continued livestock grazing on grazing allotments within the District under updated grazing management direction. The proposal encompasses approximately 490,500 acres of NFS lands in Elko County, Nevada. This updated management direction would be incorporated into all livestock grazing permits and associated allotment management plans as needed. This direction would guide livestock grazing management within the Project Area during the coming decade, or until amendments are warranted based on changed condition or monitoring results.

Other Possible Alternatives

In addition to the Proposed Action detailed above, we have tentatively identified two (2) additional alternatives that will be analyzed in the EIS:

(1) No Action Alternative: A continuation of the current grazing management without updated direction.

(2) No Grazing Alternative: New grazing permits would not be issued when existing permits expired.

Responsible Official

The responsible official is: Forest Supervisor, Humboldt-Toiyabe National Forest, 1200 Franklin Way, Sparks, NV 89431.

Nature of Decision To Be Made

Based on the environmental analysis presented in the EIS, the Forest Supervisor will decide whether or not to continue grazing on the allotments within the Project Area in accordance with the standards in the Proposed Action or as modified by mitigation measures and monitoring requirements identified during the course of the analysis.

Scoping Process

The Forest Service will mail information to interested and/or affected parties. Public involvement will be ongoing throughout the analysis process, and public input will be specifically requested at certain times. There are currently no scoping meetings planned.

Preliminary Issues

The following are some potential issues identified through internal Forest Service scoping based on experience with similar projects. We are asking you to help us further refine the existing issues as wells as identify other issues or concerns relevant to the Proposed Action. This list is not considered all-inclusive; rather, it should be viewed as a starting point:

• Improper livestock grazing has the potential to affect the following resources as identified by internal scoping:

• Water quality in streams throughout the District;

• Habitat for Lahontan Cutthroat trout, a federally-listed species found in the Humboldt River Basin;

• Heritage resources within the Project Area;

• Vegetation, including riparian plant communities and aspen stands, which may result in a decline in the long-term productivity of the land base;

• Wildlife habitat for several species, including mule deer, pygmy rabbits, spotted frogs, northern goshawk, and sage grouse.

Comment Requested

This NOI initiates the scoping process which will guide the development of the EIS. The public is invited to submit comments stating your concerns and issues that are relevant to the proposed project. These comments will be used to help establish the scope of study and analysis for the EIS.

Early Notice of Importance of Public Participation in Subsequent Environmental Review

A draft EIS will be prepared for comment. The comment period on the draft EIS will be 45 days from the date that the Environmental Protection Agency (EPA) publishes the notice of availability (NOA) in the Federal Register.

The Forest Service believes that, at this early stage, it is important to give reviewers notice of several court rulings related to public participation in the environmental review process. First, reviewers of draft EISs must structure their participation in the environmental review of the proposal so that it is meaningful and alerts an agency to the reviewer's position and contentions [Vermont Yankee Nuclear Power Corp. v. NRDC, 435 U.S. 519, 553 (1978)]. Also, environmental objections that could have been raised at the draft EIS stage but that are not raised until after completion of the final EIS may be waived or dismissed by the courts [City of Angoon v. Hodel, 803 F.2d 1016, 1022 (9th Cir. 1986) and Wisconsin Heritages, Inc. v. Harris, 490 F. Supp. 1334, 1338 (E.D. Wis. 1980)]. Because of these court rulings, it is very important that those interested in this Proposed Action participate by the close of the 45 day comment period so that substantive comments and objections are made available to the Forest Service at a time when it can consider them and respond to them in a meaningful manner within the final EIS.

To assist the Forest Service in identifying and considering issues and concerns regarding the Proposed Action, comments on the draft EIS should be as specific as possible. It is also helpful if the comments refer to specific pages, sections, or chapters of the draft document. Comments may also address the adequacy of the draft EIS or the merits of the alternatives formulated and discussed in the document. Reviewers may wish to refer to the Council on Environmental Quality (CEQ) Regulations for implementing the procedural provisions of the National Environmental Policy Act (NEPA) at 40 CFR 1503.3 in addressing these points.

Comments received, including the names and addresses of those who comment, will be considered part of the public record of this proposal and will be available for public inspection.

(Authority: 40 CFR 1501.7 and 1508.22; Forest Service Handbook 1909.15, Section 21)

Dated: October 12, 2005.
Edward C. Monnig,
Acting Forest Supervisor.

[FR Doc. 05-20781 Filed 10-17-05; 8:45 am]

BILLING CODE 3410-11-P